DEPARTMENT OF THE INTERIOR

Bureau of Land Management

[LLCOS00000-L10200000.XX0000-223L1109AF]

Northwest Resource Advisory Council Schedule of Quarterly Public Meetings, Colorado

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC) is announcing two public meetings.

DATES: The Northwest RAC will meet in 2022 as follows:

• The RAC will host a field tour on May 25 and a virtual meeting on May 26 from 10 a.m. to 3 p.m.

• The RAC will host a field tour on September 14 and a virtual meeting on September 15 from 10 a.m. to 3 p.m.

Both field tours will be held from 8 a.m. to 4 p.m. All field tours and meetings are open to the public.

ADDRESSES:

• The May 25 field tour will commence at the Kremmling Field Office, 2103 E Park Ave., Kremmling, CO 80459. Attendees will then travel to the North Sand Hills Special Recreational Management Area (SRMA).

• The September 14 field tour will commence at the Colorado River Valley Field Office, 2300 River Frontage Road, Silt, CO 81652. Attendees will then travel to the Roan Plateau.

The virtual meetings will be held via the Zoom platform. Registration and participation will be available on the RAC's web page 30 days in advance of the meetings on the RAC's web page at https://www.blm.gov/get-involved/resource-advisory-council/near-you/colorado/northwest-rac.

Send written comments to the Northwest RAC at least 1 week in advance of the meetings to BLM Northwest District Office, Attn. Chris Maestas, Public Affairs Specialist, 455 Emerson St., Craig, CO 81625; email: cjmaestas@blm.gov. Please include “RAC Comment” in your submission.

FOR FURTHER INFORMATION CONTACT: Chris Maestas, Public Affairs Specialist, email: cjmaestas@blm.gov; telephone: (970) 826-5000. Individuals in the United States who are deaf, deafblind, hard of hearing, or have a speech disability may dial 711 (TTY, TDD, or TeleBraille) to access telecommunications relay services for contacting Chris Maestas. Individuals outside the United States should use the relay services offered within their country to make international calls to the point-of-contact in the United States.

SUPPLEMENTARY INFORMATION: The 15-member Northwest Colorado RAC advises the Secretary of the Interior, through the BLM, on a variety of public land issues in the Northwest and Upper Colorado River Districts, including the White River, Kremmling, Little Snake Field Offices, Colorado River Valley, and Grand Junction Field Offices and the the Dominguez-Escalante and McInnis Canyons National Conservation Areas. The Northwest RAC will conduct a field tour on May 25 to the North Sand Hills Special Recreation Management Area located within the Kremmling Field Office. The May 26 virtual meeting will focus on recreation and travel management issues within the Northwest RAC's jurisdiction and field manager updates. The Northwest RAC will conduct a field tour on September 14 to a grazing allotment located within the Colorado River Valley Field Office. The September 15 virtual meeting will include a review and discussion on the role of virtual fencing in grazing management and field manager updates.

Public comment periods are scheduled for 2 p.m. at the May and September meetings. Contingent on the number of people who wish to comment during the public comment period, individual comments may be limited. Written comments received at least 1 week in prior to the meetings will be provided in advance to RAC members (see ADDRESSES).

Before including your address, phone number, email address, or other personal identifying information in your comment, you should be aware that your entire comment, including your personal identifying information, may be made publicly available at any time. While you can ask us in your comment to withhold your personal identifying information from public review, we cannot guarantee that we will be able to do so.

Members of the public are welcome on field tours but must provide their own transportation and meals. Individuals who plan to attend must RSVP to the BLM Northwest District Office at least 1 week in advance of the field tours to the contact listed in the FOR FURTHER INFORMATION CONTACT section of this notice. Those who need special assistance, such as sign language interpretation and other reasonable accommodations, should contact the BLM (see FOR FURTHER INFORMATION CONTACT). The field tours will follow current Centers for Disease Control and Prevention COVID-19 guidance regarding social distancing and wearing of masks. Additional information regarding the meetings will be available on the Northwest RAC's web page at https://www.blm.gov/get-involved/resource-advisory-council/near-you/colorado/northwest-rac.

Summary minutes for the Northwest RAC meetings will be maintained in the Northwest District Office and will be available for public inspection and reproduction during regular business hours within 30 days following the meeting. Previous minutes and agendas are also available on the RAC's web page.

(Authority: 43 CFR 1784.4-2)

Stephanie Connolly,
BLM Colorado Acting State Director.

[FR Doc. 2022-04427 Filed 3-2-22; 8:45 am]

BILLING CODE 4310-JB-P